DEPARTMENT OF THE TREASURY

Submission for OMB Review; Comment Request

July 19, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 27, 2001 to be assured of consideration.

Internal Revenue Service (IRS)

OMB Number: 1545-0070.

Form Number: IRS Form 2350.

Type of Review: Revision.

Title: Application for Extension of Time to File U.S. Income Tax Return.

Description: Form 2350 is used to request an extension of time to file in order to meet the bona fide residence or physical presence tests required to gain the benefits permitted under section 911. The information furnished is used to determine if the extension should be granted.

Respondents: Individuals or households.

Estimated Number of Respondents/Recordkeeper: 22,594.

Estimated Burden Hours Per Respondent/Recordkeeper:

Recordkeeping—13 min.

Learning about the law or the form—9 min.

Preparing the form—24 min.

Copying, assembling, and sending the form to the IRS—14 min.

Frequency of Response: Annually.

Estimated Total Reporting/Recordkeeping Burden: 22,594 hours.

OMB Number: 1545-0985.

Regulation Project Number: PS-128-86, PS-127-86, and PS-73-88 Final.

Type of Review: Extension.

Title: Generation-Skipping Transfer Tax.

Description: This regulation provides rules relating to the effective date, return requirements, definitions, and certain special rules covering the generation-skipping transfer tax. The information required by the regulation will require individuals and/or fiduciaries to report information on Forms 706NA, 706, 706GS(D), 706GS(D-1), 706GS(T), 709 and 843 in connection with the generation skipping transfer tax. The information will facilitate the assessment of the tax and taxpayer examinations.

Respondents: Individuals or households, Business or other for-profit.

Estimated Number of Respondents/Recordkeepers: 7,500.

Estimated Burden Hours Per Respondent/Recordkeeper: 30 minutes.

Frequency of Response: On occasion, Other (Form 706 is filed within 9 months after the taxpayer dies.).

Estimated Total Reporting/Recordkeeping Burden: 3,750 hours.

OMB Number: 1545-1058.

Form Number: IRS Form 8655.

Type of Review: Extension.

Title: Reporting Agent Authorization for Magnetic Tape/Electronic Filers.

Description: Form 8655 allows a taxpayer to designate a report agent to file certain employment ax returns electronically or on magnetic tape, and to submit Federal tax deposits. This form allows IRS to disclose tax account information and to provide duplicate copies of taxpayer correspondence to authorized agents. Reporting agents are persons or organizations preparing and filing magnetic tape or electronic equivalents of federal tax returns and/or submitting federal tax deposits.

Respondents: Business or other for-profit.

Estimated Number of Respondents: 110,000.

Estimated Burden Hours Per Respondent: 6 minutes.

Frequency of Response: On occasion.

Estimated Total Reporting/Recordkeeping Burden: 11,000 hours.

OMB Number: 1545-1430.

Form Number: IRS Forms 945, 945-A, and 945-V.

Type of Review: Revision.

Title: Annual Return of Withheld Federal Income Tax (945); Annual Record of Federal Tax Liability (945-A); and Form 945 Payment Voucher (945-V).

Description: Form 945 is used to report income tax withholding on nonpayroll payments including backup withholding and withholding on pensions, annuities, IRA's, military retirement and gambling winnings. Form 945-A is used to report nonpayroll tax liabilities. Form 945-V is used by those taxpayers who submit a payment with their return.

Respondents: Business or other for-profit, Individuals or households, Not-for-profit institutions, Farms, Federal Government, State, Local or Tribal Government.

Estimated Number of Respondents/Recordkeepers: 193,468.

Estimated Burden Hours Per Respondent/Recordkeeper:

Form | Recordkeeping | Learning about the law or the form | Preparing the form
945 | 6 hr., 12 min | 35 min | 43 min.
945-A | 9 hr., 34 min. | 15 min | 15 min.
945-V | 14 min

Frequency of Response: Annually.

Estimated Total Reporting/Recordkeeping Burden: 2,001,199 hours.

OMB Number: 1545-1601.

Revenue Procedure Number: Revenue Procedure 98-32.

Type of Review: Revision.

Title: EFTPS Programs for Reporting Agents.

Description: The Batch and Bulk Filer programs are used by Filers for electronically submitting enrollments, federal tax deposits, and federal tax payments on behalf of multiple taxpayers. These programs are part of the Electronic Federal Tax Payment System (EFTPS).

Respondents: Business or other for-profit.

Estimated Number of Respondents/Recordkeepers: 1,500.

Estimated Burden Hours Per Respondent/Recordkeeper: 82 hours, 23 minutes.

Frequency of Response: On occasion, Weekly, Monthly, Quarterly, Semi-annually, Annually, Biennially.

Estimated Total Reporting/Recordkeeping Burden: 123,567 hours.

Clearance Officer: Garrick Shear, Internal Revenue Service, Room 5244, 1111 Constitution Avenue, NW., Washington, DC 20224.

OMB Reviewer: Alexander T. Hunt (202) 395-7860, Office of Management and Budget, Room 10202, New Executive Office Building, Washington, DC 20503.

Mary A. Able,
Departmental Reports Management Officer.

[FR Doc. 01-18606 Filed 7-25-01; 8:45 am]

BILLING CODE 4830-01-P